DEPARTMENT OF ENERGY

Proposed Agency Information Collection; Comment Request; Energy Efficiency Conservation Block Grant Program

AGENCY: U.S. Department of Energy.

ACTION: Notice.

SUMMARY: The Department of Energy (DOE) invites public comment on a proposed collection of information that DOE is developing for submission to the Office of Management and Budget (OMB) pursuant to the Paperwork Reduction Act of 1995.

DATES: Comments regarding this proposed information collection must be received on or before January 19, 2010. If you anticipate difficulty in submitting comments within that period, contact the person listed in ADDRESSES as soon as possible. Any extension of the comment period will be applicable to all interested parties.

ADDRESSES: Written comments may be sent to Johanna Zetterberg, U.S. Department of Energy, EE-2K/Forrestal Building, 1000 Independence Ave., SW., Washington, DC 20585 or by fax at 202-586-1233, or by e-mail at johanna.zetterberg@ee.doe.gov.

FOR FURTHER INFORMATION CONTACT: Requests for additional information or copies of the information collection instrument and instructions should be directed to Jody Barringer at jody.barringer@ee.doe.gov.

SUPPLEMENTARY INFORMATION: The Energy Efficiency and Conservation Block Grant program is a newly established program authorized by the Energy Independence and Security Act of 2007 (Pub. L. 110-140) and funded under the American Recovery and Reinvestment Act (Pub. L. 111-5). The program provides grants to states, territories, local governments and Native American tribal governments to fund programs that reduce energy use and fossil fuel emissions and increase energy efficiency. The information collected will be used to track the recipients' activities, their progress in achieving program objectives, and funds expended (including expenditure rates). The information will also enable DOE to provide timely information on program activities and accomplishments to OMB, Congress and the public. The President's pledge of transparency and accountability in the expenditure of ARRA funds makes this information especially important.

This information collection request contains: (1) OMB No. “New”; (2) Information Collection Request Title: “Energy Efficiency and Conservation Block Grant (EECBG) Program Status Report;” (3) Type of Review: Regular Submission; (4) Purpose: To collect information on the status of grantee activities, expenditures, and results, to ensure that program funds are being used appropriately, effectively, and expeditiously; (5) Annual Estimated Number of Respondents: 2,357; (6) Annual Estimated Number of Total Responses: 28,284; (7) Estimated Time Required per Response: local governments/tribal governments—2 hours; states/territories—3 hours; (8) Annual Estimated Number of Burden Hours: 85,524; and (9) Annual Estimated Reporting and Recordkeeping Cost Burden: $3,985.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Authority: Title V, Subtitle E of the Energy Independence and Security Act (EISA), Public Law 110-140.

Issued in Washington, DC, on November 5, 2009.
Cathy Zoi,
Assistant Secretary, Energy Efficiency and Renewable Energy.

[FR Doc. E9-27597 Filed 11-17-09; 8:45 am]

BILLING CODE 6450-01-P